DEPARTMENT OF ENERGY

Proposed Emergency Agency Information Collection

AGENCY: Office of Management, Department of Energy.

ACTION: Notice and request for comments.

SUMMARY: The Department of Energy (DOE) invites the public to comment on a proposed collection of information that DOE is developing for submission to the Office of Management and Budget (OMB) pursuant to the Paperwork Reduction Act of 1995.

DATES: Comments regarding this proposed information collection must be received on or before October 29, 2021. If you anticipate difficulty in submitting comments within that period, contact the person listed in ADDRESSES as soon as possible.

ADDRESSES: Written comments may be sent to Jason Taylor, Procurement Analyst, U.S. Department of Energy, 1000 Independence Avenue SW, Washington, DC 20585-1615, or by email at Jason.Taylor@hq.doe.gov.

FOR FURTHER INFORMATION CONTACT: Requests for additional information or copies of the information collection instrument and instructions should be directed to Jason Taylor, Procurement Analyst, U.S. Department of Energy, 1000 Independence Avenue SW, Washington, DC 20585-1615, by email at Jason.Taylor@hq.doe.gov or by phone at (202) 287-1560.

SUPPLEMENTARY INFORMATION: Comments are requested on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including the use of automated collection techniques or other forms of information technology. This information collection request contains:

(1) OMB No.: 1910-5191;

(2) Information Collection Request Title: Certification of Vaccination—Onsite Support Service Contractor Employees;

(3) Type of Request: Emergency Clearance;

(4) Purpose: This information is being requested, collected, and maintained in order to promote the safety of Federal buildings, the Federal workforce, and others on site at agency facilities consistent with the COVID-19 Workplace Safety: Agency Model Safety Principles established by the Safer Federal Workforce Task Force and guidance from the Centers for Disease Control and Prevention and the Occupational Safety and Health Administration. Specifically, this information will be used by DOE staff charged with implementing and enforcing workplace safety protocols.

(5) Annual Estimated Number of Respondents: 15,000;

(6) Annual Estimated Number of Total Responses: 15,000;

(7) Annual Estimated Number of Burden Hours: 2,500;

(8) Annual Estimated Reporting and Recordkeeping Cost Burden: $145,475.

Statutory Authority: Executive Order 13991, Protecting the Federal Workforce and Requiring Mask-Wearing (Jan. 20, 2021); Occupational Safety and Health Program for Federal Employees (Feb. 26, 1980); 5 U.S.C. chapters 11, and 79.; the COVID-19 Workplace Safety: Agency Model Safety Principles established by the Safer Federal Workforce Task Force, and guidance from Centers for Disease Control and Prevention and the Occupational Safety and Health Administration.

Signing Authority

This document of the Department of Energy was signed on September 23, 2021, by Ingrid Kolb, Director, Office of Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2021.
Treena V. Garrett,
Federal Register Liaison Officer, U.S. Department of Energy.

[FR Doc. 2021-21099 Filed 9-28-21; 8:45 am]

BILLING CODE 6450-01-P